NUCLEAR REGULATORY COMMISSION

Sunshine Act; Meetings

DATES: Weeks of April 25, May 2, 9, 16, 23, 30, 2005.

PLACE: Commissioner's Conference Room, 11555 Rockville Pike, Rockville, Maryland.

STATUS: Public and Closed.

Matters To Be Considered:

Week of April 25, 2005

Tuesday, April 26, 2005

9:30 a.m.

Briefing on Grid Stability and Offsite Power Issues (Public Meeting). (Contact: John Lamb, (301) 415-1446).

This meeting will be Web cast live at the Web address— http://www.nrc.gov.

Week of May 2, 2005—Tentative

There are no meetings scheduled for the Week of May 2, 2005.

Week of May 9, 2005—Tentative

Wednesday, May 11, 2005

10:30 a.m.

All Employees Meeting (Public Meeting).

1:30 p.m.

All Employees Meeting (Public Meeting).

Week of May 16, 2005—Tentative

There are no meetings scheduled for the Week of May 16, 2005.

Week of May 23, 2005—Tentative

Monday, May 23, 2005

1:30 p.m.

Discussion of Security Issues (Closed—Ex. 1).

Wednesday, May 25, 2005

9:30 a.m.

Briefing on Results of the Agency Action Review Meeting (Public Meeting). (Contact: Lois James, (301) 415-1112).

This meeting will be Web cast live at the Web address— http://www.nrc.gov.

1:30 p.m.

Briefing on Threat Environment Assessment (Closed—Ex.1).

Week of May 30, 2005—Tentative

Wednesday, June 1, 2005

9:30 a.m.

Discussion of Security Issues (Closed—Ex. 1).

Thursday, June 2, 2005

9:30 a.m.

Briefing on Office of International Programs (OIP) Programs, Performance, and Plans (Public Meeting). (Contact: Margie Doane, (301) 415-2344).

This meeting will be Web cast live at the Web address— http://www.nrc.gov.

1:30 p.m.

Discussion of Management Issues (Closed—Ex. 2&9).

*The schedule for Commission meetings if subject to change on short notice. To verify the status of meetings call (recording)—(301) 415-1292. Contact person for more information: Dave Gamberoni, (301) 415-1651.

Additional Information: “Discussion of Security Issues (Closed—Ex. 1),” originally scheduled for Thursday, April 21, 2005 at 1:30 p.m. was not held.

The NRC Commission Meeting Schedule can be found on the Internet at: http://www.nrc.gov/what-we-do/policy-making/schedule.html.

The NRC provides reasonable accommodation to individuals with disabilities where appropriate. If you need a reasonable accommodation to participate in these public meetings, or need this meeting notice or the transcript or other information from the public meetings in another format (e.g. braille, large print), please notify the NRC's Disability Program Coordinator, August Spector, at (301) 415-7080, TDD: (301) 415-2100, or by e-mail at aks@nrc.gov. Determinations on requests for reasonable accommodation will be made on a case-by-case basis.

This notice is distributed by mail to several hundred subscribers; if you no longer wish to receive it, or would like to be added to the distribution, please contact the Office of the Secretary, Washington, DC 20555 (301) 415-1969). In addition, distribution of this meeting notice over the Internet system is available. If you are interested in receiving this Commission meeting schedule electronically, please send an electronic message to dkw@nrc.gov.

Dated: April 21, 2005.
Dave Gamberoni,
Office of the Secretary.

[FR Doc. 05-8493 Filed 4-25-05; 9:23 am]

BILLING CODE 7590-01-M